DEPARTMENT OF AGRICULTURE

Rural Business-Cooperative Service

Inviting Applications for Renewable Energy Systems and Energy Efficiency Improvements Grants and Guaranteed Loans

AGENCY: Rural Business-Cooperative Service (RBS), USDA.

ACTION: Notice.

SUMMARY: Rural Business-Cooperative Service (RBS) announces the availability of funds for fiscal year (FY) 2006 to purchase renewable energy systems and make energy efficiency improvements for agriculture producers and rural small businesses in eligible rural areas. The amount available for competitive grants is $11.385 million. Approximately $176.5 million in guaranteed loan authority is also available. Any guarantee loan funds that are not obligated by August 1, 2006, will be pooled and revert to the National Office reserve for grant use. USDA is currently in the process of evaluating the potential for a direct loan program to help finance renewable energy and energy efficiency projects for rural small businesses and agricultural producers. Therefore, for purposes of FY 2006, funding will be limited to grants and guaranteed loans.

For renewable energy systems, the minimum grant request is $2,500 and the maximum is $500,000. For energy efficiency improvements, the minimum acceptable grant request is $1,500 and the maximum is $250,000. The maximum amount of a guaranteed loan made to a borrower will be $10 million. For FY 2006, the guarantee fee amount is 1.0% (one percent) of the guaranteed portion of the loan and the annual renewal fee is 0.125% (one-eighth of one percent) of the guaranteed portion of the loan.

DATES: The United States Department of Agriculture (USDA) will conduct one competitive grant solicitation in 2006. Applications must be completed and submitted to the appropriate USDA Rural Development State Office postmarked no later than May 12, 2006. Grant applications postmarked after this date will be returned to the applicant with no action. Any guaranteed loan funds not obligated by August 1, 2006 will be made available for competitive grants under this notice. Guaranteed loans will be awarded on a continuous basis. Applications are due to the National Office for funding consideration by July 3, 2006. In accordance with RD Instructions 1940-G, all environmental assessments must be completed prior to submission to the National Office.

ADDRESSES: Submit applications to the USDA Rural Development State Office in the State where your project is located or, in the case of rural small businesses, where your business is headquartered. A list of the Rural Development State Offices and Energy Coordinators addresses and telephone numbers follow. For further information about this solicitation, please contact the applicable State Office. This document is available on our Web site at http://www.rurdev.usda.gov/rbs/farmbill/index.html.

USDA State Rural Development Offices

Alabama

Mary Ann Clayton, USDA Rural Development, Sterling Centre, Suite 601, 4121 Carmichael Road, Montgomery, AL 36106-3683, (334) 279-3615.

Alaska

Dean Stewart, USDA Rural Development, 800 West Evergreen, Suite 201, Palmer, AK 99645-6539, (907) 761-7722.

Arizona

Alan Watt, USDA Rural Development, 230 N. First Avenue, Suite 206, Phoenix, AZ 85003-1706, (602) 280-8769.

Arkansas

Shirley Tucker, USDA Rural Development, 700 West Capitol Avenue, Room 3416, Little Rock, AR 72201-3225, (501) 301-3280.

California

Joseph Choperena, USDA Rural Development, 430 G Street, 4169, Davis, CA 95616-4169, (530) 792-5826.

Colorado

Linda Sundine, USDA Rural Development, 655 Parfet Street, Room E-100, Lakewood, CO 80215, (720) 544-2929.

Delaware-Maryland

James Waters, USDA Rural Development, 1221 College Park Drive, Suite 200, Dover, DE 19904, (302) 857-3626.

Florida/Virgin Islands

Joe Mueller, USDA Rural Development, 4440 NW. 25th Place, P.O. Box 147010, Gainesville, FL 32614-7010, (352) 338-3482.

Georgia

J. Craig Scroggs, USDA Rural Development, 333 Phillips Drive, McDonough, GA 30253, (678) 583-0866.

Hawaii

Tim O'Connell, USDA Rural Development, Federal Building, Room 311, 154 Waianuenue Avenue, Hilo, HI 96720, (808) 933-8313.

Idaho

Brian Buch, USDA Rural Development, 725 Jensen Grove Drive, Suite 1, Blackfoot, ID 83221, (208) 785-5840, Ext. 118.

Illinois

Patrick Lydic, USDA Rural Development, 2118 West Park Court, Suite A, Champaign, IL 61821, (217) 403-6211.

Indiana

Jerry Hay, USDA Rural Development, 2411 N. 1250 W., Deputy, IN 47230, (812) 873-1100.

Iowa

Teresa Bomhoff, USDA Rural Development, 873 Federal Building, 210 Walnut Street, Des Moines, IA 50309, (515) 284-4447.

Kansas

F. Martin Fee, USDA Rural Development, 1303 SW First American Place, Suite 100, Topeka, KS 66604-4040, (785) 271-2744.

Kentucky

Scott Mass, USDA Rural Development, 771 Corporate Drive, Suite 200, Lexington, KY 40503, (859) 224-7435.

Louisiana

Kevin Boone, USDA Rural Development, 3727 Government Street, Alexandria, LA 71302, (318) 473-7960.

Maine

John F. Sheehan, USDA Rural Development, 967 Illinois Avenue, Suite 4, P.O. Box 405, Bangor, ME 04402-0405, (207) 990-9168.

Massachusetts/Rhode Island/Connecticut

Sharon Colburn, USDA Rural Development, 451 West Street, Suite 2, Amherst, MA 01002-2999, (413) 253-4303.

Michigan

Rick Vanderbeek, USDA Rural Development, 3001 Coolidge Road, Suite 200, East Lansing, MI 48823, (517) 324-5218.

Minnesota

Lisa Noty, USDA Rural Development, 1408 21st Avenue, Suite 3, Austin, MN 55912, (507) 437-8247 ext. 150.

Mississippi

G. Gary Jones, USDA Rural Development, Federal Building, Suite 831, 100 West Capitol Street, Jackson, MS 39269, (601) 965-5457.

Missouri

D Clark Thomas, USDA Rural Development, 601 Business Loop 70 West, Parkade Center, Suite 235, Columbia, MO 65203, (573) 876-0995.

Montana

John Guthmiller, USDA Rural Development, 900 Technology Blvd., Unit 1, Suite B, P.O. Box 850, Bozeman, MT 59771, (406) 585-2540.

Nebraska

Cliff Kumm, USDA Rural Development, 201 North, 25 Street, Beatrice, NE 68310, (402) 223-3125.

Nevada

Dan Johnson, USDA Rural Development, 555 West Silver Street, Suite 101, Elko, NV 89801, (775) 738-8468, Ext. 112.

New Hampshire (See Vermont)

New Jersey

Michael Kelsey, USDA Rural Development, 8000 Midlantic Drive, 5th Floor North, Suite 500, Mt. Laurel, NJ 08054, (856) 787-7700, Ext. 7751.

New Mexico

Eric Vigil, USDA Rural Development, 6200 Jefferson Street, NE., Room 255, Albuquerque, NM 87109, (505) 761-4952.

New York

Scott Collins, USDA Rural Development, The Galleries of Syracuse, Suite 357, 441 South Salina Street, Syracuse, NY 13202-2541, (315) 477-6409.

North Carolina

H. Rossie Bullock, USDA Rural Development, 4405 Bland Road, Suite 260, Raleigh, NC 27609, (910) 739-3349 Ext. 4.

North Dakota

Dale Van Eckhout, USDA Rural Development, Federal Building, Room 208, 220 East Rosser Avenue, P.O. Box 1737, Bismarck, ND 58502-1737, (701) 530-2065.

Ohio

Randy Monhemius, USDA Rural Development, Federal Building, Room 507, 200 North High Street, Columbus, OH 43215-2418, (614) 255-2424.

Oklahoma

Jody Harris, USDA Rural Development, 100 USDA, Suite 108, Stillwater, OK 74074-2654, (405) 742-1036.

Oregon

Don Hollis, USDA Rural Development, 1229 SE. Third Street, Suite A, Pendleton, OR 97801-4198, (541) 278-8049, Ext. 129.

Pennsylvania

J. Gregory Greco, USDA Rural Development, One Credit Union Place, Suite 330, Harrisburg, PA 17110-2996, (717) 237-2289.

Puerto Rico

Luis Garcia, USDA Rural Development, IBM Building, 654 Munoz Rivera Avenue, Suite 601, Hato Rey, PR 00918-6106, (787) 766-5091, Ext. 251.

South Carolina

R. Gregg White, USDA Rural Development, Strom Thurmond Federal Building, 1835 Assembly Street, Room 1007, Columbia, SC 29201, (803) 765-5881.

South Dakota

Gary Korzan, USDA Rural Development, Federal Building, Room 210, 200 4th Street, SW., Huron, SD 57350, (605) 352-1142.

Tennessee

Will Dodson, USDA Rural Development, 3322 West End Avenue, Suite 300, Nashville, TN 37203-1084, (615) 783-1350.

Texas

Daniel Torres, USDA Rural Development, Federal Building, Suite 102101, South Main Street, Temple, TX 76501, (254) 742-9756.

Utah

Richard Carrig, USDA Rural Development, Wallace F. Bennett Federal Building, 125 South State Street, Room 4311, Salt Lake City, UT 84111, (801) 524-4328.

Vermont/New Hampshire

Lyn Millhiser, USDA Rural Development, City Center, 3rd Floor, 89 Main Street, Montpelier, VT 05602, (802) 828-6069.

Virginia

Laurette Tucker, USDA Rural Development, Culpeper Building, Suite 238, 1606 Santa Rosa Road, Richmond, VA 23229, (804) 287-1594.

Washington

Chris Cassidy, USDA Rural Development, 1835 Black Lake Blvd. SW., Suite B, Olympia, WA 98512, (360) 704-7707.

West Virginia

Cheryl Wolfe, USDA Rural Development, 75 High Street, Room 320, Morgantown, WV 26505-7500, (304) 284-4882.

Wisconsin

Mark Brodziski, USDA Rural Development, 4949 Kirschling Court, Stevens Point, WI 54481, (715) 345-7615, Ext. 131.

Wyoming

Milton Geiger, USDA Rural Development, Dick Cheney Federal Building, 100 East B Street, Room 1005, P.O. Box 820, Casper, WY 82602, (307) 672-5820 Ext. 4.

SUPPLEMENTARY INFORMATION: This solicitation is issued pursuant to Section 9006 of the Farm Security and Rural Investment Act of 2002 (2002 Act), which established the Renewable Energy Systems and Energy Efficiency Improvements Program. The program is designed to help agricultural producers and rural small businesses reduce energy costs and consumption and help meet the Nation's critical energy needs. The 2002 Act mandates the maximum percentage Rural Development will provide in funding for these types of projects. Rural Development grants under this program will not exceed 25 percent of the eligible project costs. Rural Development guaranteed loans will not exceed 50 percent of the eligible project costs. Rural Development combined grant and guaranteed loan funding packages will not exceed 50 percent of eligible project cost, with the grant portion not to exceed 25 percent of eligible project costs.

Information required to be in the application package is contained in 7 CFR 4280.111. Awards are made on a competitive basis using specific evaluation criteria contained in 7 CFR 4280.112(e). To ensure that projects are accurately scored by USDA, applicants are expected to tab and number each evaluation criteria and include in that section, its corresponding supporting documentation and calculations according to 7 CFR 4280.112. Only projects that have completed the environmental review process according to 7 CFR 4280.114(d), demonstrated project eligibility according to 7 CFR 4280.108, and demonstrated technical feasibility will be eligible for funding consideration.

State Offices will submit eligible funding requests, with the state score sheets, including supporting documentation to the National Office for funding consideration. The National Office will form a Second Tier Review Committee comprised of representatives from Rural Development State Offices, U.S. Forest Service National Office staff, the Department of Energy's National Renewable Energy Laboratory, and Environmental Protection Agency National Office staff. The Second Tier Review Committee will conduct independent reviews of proposals based on the grant evaluation criteria contained in 7 CFR 4280.112(e). These reviews will be conducted based on the information provided in the State Office request for funding. The Second Tier Review Committee will only award points when properly organized supporting documentation and fully understandable calculations are provided.

Final scores and ranking will be based on the reviews completed by the Second Tier Review Committee. To reduce scoring bias by technology and scale, a standard statistical normalization process will be applied to all scores. All applicants will be notified by the Rural Development State Offices of the Agency's decision on the awards.

This program is listed in the Catalog of Federal Domestic Assistance under Number 10.755 and is subject to the provisions of Executive Order 12372, which requires intergovernmental consultation with State and local officials.

Paperwork Reduction Act

In accordance with the Paperwork Reduction Act, the paperwork burden has been cleared by the Office of Management and Budget (OMB) under OMB Control Number 0570-0050.

Nondiscrimination Statement

USDA prohibits discrimination in all its programs and activities on the basis of race, color, national origin, age, disability, and where applicable, sex, marital status, familial status, parental status, religion, sexual orientation, genetic information, political beliefs, reprisal, or because all or part of an individual's income is derived from any public assistance program. (Not all prohibited bases apply to all programs.) Persons with disabilities who require alternative means for communication of program information (braille, large print, audiotape, etc.) should contact USDA's TARGET Center at (202) 720-2600 (voice and TDD).

To file a complaint of discrimination, write to USDA, Director, Office of Civil Rights, 1400 Independence Avenue, SW., Washington, DC 20250-9410, or call (800) 795-3272 (voice), or (202) 720-6382 (TDD). “USDA is an equal opportunity provider, employer, and lender.”

Dated: February 2, 2006.
Jackie J. Gleason,
Acting Administrator, Business and Cooperative Programs.

[FR Doc. E6-1923 Filed 2-10-06; 8:45 am]

BILLING CODE 3410-XY-P